DEPARTMENT OF COMMERCE

National Oceanic and Atmospheric Administration

Agency Information Collection Activities; Submission to the Office of Management and Budget (OMB) for Review and Approval; Comment Request; Questionnaire for National Oceanic and Atmospheric Administration Federal Financial Assistance Applicants

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 8, 2021 (86 FR 30445) during a 60-day comment period. This notice allows for an additional 30 days for public comments.

Agency: National Oceanic and Atmospheric Administration (NOAA), Commerce.

Title: Questionnaire for National Oceanic and Atmospheric Administration Federal Financial Assistance Applicants.

OMB Control Number: 0648-0538.

Form Number(s): None.

Type of Request: Regular [Revision and extension of a current information collection.].

Number of Respondents: 736.

Average Hours per Response: 3 hours.

Total Annual Burden Hours: 2,208 hours.

Needs and Uses: This request is for a revision and extension of a currently approved information collection through the Environmental Compliance Questionnaire for National Oceanic and Atmospheric Administration Federal Financial Assistance Applicants (Questionnaire). This Questionnaire is used by the National Oceanic and Atmospheric Administration (NOAA) to collect information about proposed activities for the purpose of complying with the National Environmental Policy Act (“NEPA,” 42 U.S.C. 4321-4370) and other environmental compliance requirements associated with proposed activities. NEPA requires federal agencies to complete an environmental analysis for all major federal actions, including funding non-federal activities through federal financial assistance awards where federal participation in the funded activity is expected to be significant. The Questionnaire is used in conjunction with NOAA Notices of Funding Opportunity (NOFO).

The NOFO will indicate the specific questions to which an applicant must respond in one of three ways: (1) The applicable questions are inserted directly into the NOFO with reference to the OMB Approval Number (0648-0538) for this form; (2) the NOFO will specify which questions (e.g., 1, 2) an applicant must answer, with the entire OMB-approved Questionnaire attached to the NOFO; or (3) applicants to be recommended for funding will be required to answer relevant questions from the Questionnaire. The federal program officer will determine which questions are relevant to each specific applicant. Answers must be provided before the application can be submitted for final funding approval. This Questionnaire has been revised to (1) remove repetitive questions; (2) revise specific questions to use plain language; and (3) add 18 new questions that would be helpful to a wider range of NOAA programs.

Affected Public: Individuals or households; Business or other for-profit organizations; Not-for-profit institutions; State, Local, or Tribal government.

Frequency: Required when responding to a NOFO.

Respondent's Obligation: Required to Obtain or Retain Benefits.

Legal Authority: National Environmental Policy Act (42 U.S.C. 4321-4370).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0538.

Sheleen Dumas,
Department PRA Clearance Officer, Office of the Chief Information Officer, Commerce Department.

[FR Doc. 2021-20486 Filed 9-21-21; 8:45 am]

BILLING CODE 3510-22-P